DEPARTMENT OF JUSTICE

[OMB Number 1110-0002]

Agency Information Collection Activities; Proposed eCollection eComments Requested; Extension Without Change of a Currently Approved Collection (1-704)

AGENCY: Federal Bureau of Investigation, Criminal Justice Information Services Division, Department of Justice.

Supplementary Homicide Report

ACTION: 30-day notice.

SUMMARY: The Department of Justice, Federal Bureau of Investigation, Criminal Justice Information Services Division, will be submitting the following information collection request to the Office of Management and Budget (OMB) for review and approval in accordance with the Paperwork Reduction Act of 1995. The proposed information collection was previously published in the Federal Register Volume 79, Number 56, page 16055, on March 24, 2014, allowing for a 60 day comment period.

DATES: Comments are encouraged and will be accepted for an additional 30 days until June 26, 2014.

FOR FURTHER INFORMATION CONTACT: If you have additional comments especially on the estimated public burden or associated response time, suggestions, or need a copy of the proposed information collection instrument with instructions or additional information, please contact Mrs. Amy Blasher, Unit Chief, Federal Bureau of Investigation, Criminal Justice Information Services (CJIS) Division, Module E-3, 1000 Custer Hollow Road, Clarksburg, West Virginia 26306; telephone 304-625-4830, facsimile, 304 625-3566. Written comments and/or suggestions can also be directed to the Office of Management and Budget, Officer of Information and Regulatory Affairs, Attention Department of Justice Desk Officer, Washington, DC 20503 or send to OIRA_submission@omb.eop.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection

1. Type of Information Collection: Extension without change of a currently approved collection.

2. The Title of the Form/Collection: Supplementary Homicide Report.

3. The agency form number, if any, and the applicable component of the Department sponsoring the collection: The form number is 1-704. The applicable component within the Department of Justice, the Federal Bureau of Investigation, Criminal Justice Information Services Division.

4. Affected public who will be asked or required to respond, as well as a brief abstract:

The affected public who are asked to voluntarily respond is city, county, state, tribal, and federal U.S. law enforcement. Under Title 28, U.S. Code, Section 534, this information collection requests homicide data from respondents in order for the FBI UCR Program to serve as the national clearinghouse for the collection and dissemination of homicide data and to publish these statistics in Crime in the United States. The SHR provides for the national UCR Program a record of each homicide incident including details regarding the victim, offender, their relationship, the weapon used, and the circumstances in which each criminal homicide, justifiable homicide, and manslaughter by negligence is committed.

5. An estimate of the total number of respondents and the amount of time estimated for an average respondent to respond: There is a potential of 18,233 law enforcement agency respondents; 11,586 for the Summary Reporting System (SRS) and 6,647 for the National Incident-Based Reporting System (NIBRS). NIBRS burden hours are collected on the NIBRS Information Collection Request. Calculated estimates for an SRS respondent to respond indicate 9 minutes per month. The total annual burden hour per respondent is 1 hour and 48 minutes.

Total Annual Hour Burden:

9 minutes × 12 months = 108/60 = 1 hour and 48 minutes.

6. An estimate of the total public burden (in hours) associated with the collection: There are approximately 20,855 hours, annual burden, associated with this information collection.

11,586 respondents × 12 responses/year = 139,032 total annual responses

139,032 × 9 minutes/60 minutes = 20,855 total annual hour burden

(This burden estimate does not include the 6,696 NIBRS agencies; the NIBRS burden hours are captured in the NIBRS Information Collection Request.)

If additional information is required contact: Jerri Murray, Department Clearance Officer, United States Department of Justice, Justice Management Division, Policy and Planning Staff, Two Constitution Square, 145 N Street NE., 3W-1407B, Washington, DC 20530.

Dated: May 20, 2014.
Jerri Murray,
Department Clearance Officer for PRA, U.S. Department of Justice.

[FR Doc. 2014-12068 Filed 5-23-14; 8:45 am]

BILLING CODE 4410-02-P